DEPARTMENT OF THE INTERIOR

National Park Service

[NPS-WASO-NAGPRA-11214; 2200-1100-665]

Notice of Inventory Completion: U.S. Department of Defense, Army Garrison, Redstone Arsenal, Huntsville, AL

AGENCY: National Park Service, Interior.

ACTION: Notice.

SUMMARY: The U.S. Army Garrison, Redstone Arsenal, has completed an inventory of human remains and associated funerary objects, in consultation with the appropriate Indian tribes, and has determined that there is no cultural affiliation between the remains and any present-day Indian tribe. Representatives of any Indian tribe that believes itself to be culturally affiliated with the human remains may contact the Redstone Arsenal. Disposition of the human remains and associated funerary objects to the Indian tribes stated below may occur if no additional requestors come forward.

DATES: Representatives of any Indian tribe that believes it has a cultural affiliation with the human remains should contact the Redstone Arsenal at the address below by October 29, 2012.

ADDRESSES: Mr. Ben Hoksbergen, 4488 Martin Road, Room A-328, U.S. Army Garrison, Redstone Arsenal, Huntsville, AL 35898, telephone (256) 955-6971.

SUPPLEMENTARY INFORMATION: Notice is here given in accordance with the Native American Graves Protection and Repatriation Act (NAGPRA), 23 U.S.C. 3003, of the completion of an inventory of human remains and associated funerary objects under the control of the U.S. Army Garrison, Redstone Arsenal (Redstone Arsenal). The human remains and associated funerary objects were removed from three sites in Madison County, AL.

This notice is published as part of the National Park Service's administrative responsibilities under NAGPRA, 25 U.S.C. 3003(d)(3) and 43 CFR 10.11(d). The determinations in this notice are sole responsibility of the museum, institution, or Federal agency that has control of the Native American human remains and associated funerary objects. The National Park Service is not responsible for the determinations in this notice.

Consultation

A detailed assessment of the human remains and associated funerary objects was made by Redstone Arsenal and the U. S. Army Engineer District, St. Louis, Mandatory Center of Expertise for Curation and Management of Archaeological Collections in consultation with representatives of the Absentee Shawnee Tribe of Indians of Oklahoma; Alabama-Coushatta Tribe of Texas; Alabama-Quassarte Tribal Town, Oklahoma; Cherokee Nation, Oklahoma; Chickasaw Nation, Oklahoma; Choctaw Nation of Oklahoma; Coushatta Tribe of Louisiana; Eastern Band of Cherokee Indians of North Carolina; Eastern Shawnee Tribe of Oklahoma; Kialegee Tribal Town, Oklahoma; Mississippi Band of Choctaw Indians, Mississippi; Muskogee (Creek) Nation, Oklahoma; Poarch Band of Creek Indians of Alabama; Seminole Tribe of Oklahoma; Shawnee Tribe, Oklahoma; Thlopthlocco Tribal Town, Oklahoma; Tunica-Biloxi Indian Tribe of Louisiana; and the United Keetoowah Band of Cherokee Indians in Oklahoma.

History and Description of the Remains

In March 1978, human remains representing, at minimum, nine individuals were discovered eroding out of a clay floor of a cave at site 1MA165, on Redstone Arsenal, in Madison County, AL. The University of Alabama, Office of Archaeological Research conducted a surface collection of the exposed bone found in the cave. This investigation was undertaken as part of a Phase I cultural reconnaissance project of selected areas of Redstone Arsenal. The partial and fragmentary skeletal remains are those of adult individuals, likely both male and female, recovered during the University of Alabama, Office of Archaeological Research's survey. No known individuals were identified. No associated funerary objects are present.

According to Lawrence S. Alexander's technical report Phase I Cultural Reconnaissance of Selected Areas of Redstone Arsenal, Madison County, Alabama (1979), which is on file at Redstone Arsenal, these human remains were exposed by the action of flowing water from a drip pool which cut a drainage channel through the talus slope at the foot of the cave. Alexander believed that this site represents a Copena ossuary cave dating to A.D. 100-500. The human remains were deposited into a 45-foot shaft where they were subsequently redeposited by water action onto the talus slope at the foot of the cave.

In January of 1980, human remains representing, at minimum, one individual were removed by New World Research, Inc. during a reconnaissance level cultural resource survey to conduct testing and evaluation of a proposed alternate corridor for a DDT contamination study on Redstone Arsenal, in Madison County, AL. During testing at the extensive village site 1MA210, 18 fragmentary pieces of human bone representing one adult of indeterminate sex were recovered from a shovel test. No known individuals were identified. The 37 associated funerary objects are 28 flakes, 1 projectile point, 7 stone debris fragments, and 1 gastropod shell.

During the spring of 1987, human remains representing, at minimum, one individual were removed by OMS, Inc. during an archeological investigation on Redstone Arsenal, at the village site 1MA126, in Madison County, AL. The partial and fragmentary remains of one adult male were removed from a burial pit. About half of the burial had been disturbed by earlier mechanical excavation. The remainder was found in the profile of the north side of the trench. The individual had been interred in a sitting position within a cylindrical pit lined with pieces of limestone. No known individuals were identified. The 16 associated funerary objects are 6 chert flakes; 1 chert blank; 2 preforms; 1 rodent tooth; 1 beaver tooth; 1 deer antler tine; 1 drilled deer antler piece; 2 Wade points; and 1 hammerstone. The presence of diagnostic Wade Projectile points suggests a date for the burial sometime during the Late Archaic (4000-1000 BP) to Gulf Formational (2500-100 BP) periods.

At the time of the excavation and removal of these human remains and associated funerary objects, the land from which the remains and objects were removed was not the tribal land of any Indian tribe. In 2010 and 2011, the Redstone Arsenal consulted with all the Indian tribes who are recognized as aboriginal to the area from which these Native American human remains and associated funerary objects were removed. These tribes are the Cherokee Nation of Oklahoma, the Eastern Band of Cherokee Indians of North Carolina, and the United Keetoowah Band of Cherokee Indians in Oklahoma. None of these tribes agreed to accept control of the human remains and associated funerary objects. In June of 2012, the Redstone Arsenal agreed to transfer control of the human remains and associated funerary objects to the Chickasaw Nation of Oklahoma.

Determinations Made by the U.S. Army Garrison, Redstone Arsenal

Officials of the U.S. Army Garrison, Redstone Arsenal, have determined that:

• Based on non-destructive physical analysis of the human remains and the cultural context of the sites, the human remains were determined to be Native American.

• Pursuant to 25 U.S.C. 3001(2), a relationship of shared group identity cannot be reasonably traced between the Native American human remains and any present-day Indian tribe.

• According to the final judgment of the Indian Claims Commission, the human remains were removed from the aboriginal land of the Cherokee Nation, which includes the present-day tribes of the Cherokee Nation of Oklahoma, the Eastern Band of Cherokee Indians of North Carolina, and the United Keetoowah Band of Cherokee Indians in Oklahoma.

• Pursuant to 25 U.S.C. 3001(9), the human remains described above represent the physical remains of 11 individuals of Native American ancestry.

• Pursuant to 25 U.S.C. 3001(3)(A), the 53 objects described above are reasonably believed to have been placed with or near individual human remains at the time of death or later as part of the death rite or ceremony.

• Pursuant to 43 CFR 10.11(c)(2)(i), the disposition of the human remains and associated funerary objects is to the Chickasaw Nation of Oklahoma.

Additional Requestors and Disposition

Representatives of any Indian tribe that believes itself to be culturally affiliated with the human remains and associated funerary objects or any other Indian tribe that believes it satisfies the criteria in 43 CFR 10.11(c)(1) should contact Mr. Ben Hoksbergen, 4488 Martin Road, Room A-328, U.S. Army Garrison, Redstone Arsenal, Huntsville, AL 35898, telephone (256) 955-6971, before October 29, 2012. Disposition of the human remains and associated funerary objects to the Chickasaw Nation of Oklahoma may proceed after that date if no additional claimants or requestors come forward.

Redstone Arsenal is responsible for notifying the Absentee Shawnee Tribe of Indians of Oklahoma; Alabama-Coushatta Tribe of Texas; Alabama-Quassarte Tribal Town, Oklahoma; Cherokee Nation, Oklahoma; Chickasaw Nation, Oklahoma; Choctaw Nation of Oklahoma; Coushatta Tribe of Louisiana; Eastern Band of Cherokee Indians of North Carolina; Eastern Shawnee Tribe of Oklahoma; Kialegee Tribal Town, Oklahoma; Mississippi Band of Choctaw Indians, Mississippi; Muskogee (Creek) Nation, Oklahoma; Poarch Band of Creek Indians of Alabama; Seminole Tribe of Oklahoma; Shawnee Tribe, Oklahoma; Thlopthlocco Tribal Town, Oklahoma; Tunica-Biloxi Indian Tribe of Louisiana; and the United Keetoowah Band of Cherokee Indians in Oklahoma, that this notice has been published.

Dated: September 5, 2012.
Melanie O'Brien,
Acting Manager, National NAGPRA Program.

[FR Doc. 2012-23922 Filed 9-27-12; 8:45 am]

BILLING CODE 4312-50-P